DEPARTMENT OF COMMERCE

International Trade Administration

Initiation of Antidumping and Countervailing Duty Administrative Reviews and Deferral of Administrative Reviews

AGENCY: Import Administration, International Trade Administration, Department of Commerce.

ACTION: Notice of Initiation of Antidumping and Countervailing Duty Administrative Reviews and Deferral of Administrative Reviews.

SUMMARY: The Department of Commerce (the Department) has received requests to conduct administrative reviews of various antidumping and countervailing duty orders and findings with February anniversary dates. In accordance with the Department's regulations, we are initiating those administrative reviews. The Department also received requests to defer the initiation of an administrative review for one antidumping duty order and one countervailing duty order.

EFFECTIVE DATE: April 5, 2006.

FOR FURTHER INFORMATION CONTACT: Sheila E. Forbes, Office of AD/CVD Operations, Office 4, Import Administration, International Trade Administration, U.S. Department of Commerce, 14th Street and Constitution Avenue, N.W., Washington, D.C. 20230, telephone: (202) 482-4697.

SUPPLEMENTARY INFORMATION:

Background

The Department has received timely requests, in accordance with 19 CFR 351.213(b)(2004), for administrative reviews of various antidumping and countervailing duty orders and findings with February anniversary dates. With respect to the antidumping duty orders on Frozen Warmwater Shrimp from Brazil, Ecuador, India, Thailand, the People's Republic of China and the Socialist Republic of Vietnam, the initiation of the antidumping duty administrative review for these cases will be published in a separate initiation notice. The Department also received timely requests in accordance with 19 CFR 351.213 (c) from Eurodif S.A. (Eurodif), the sole producer/exporter for which a review was requested, to defer for one year the initiation of the February 1, 2005 through January 31,2006 administrative review of the antidumping duty order on Low Enriched Uranium from France (A-427-818) and the January 1, 2005 through December 31, 2005 administrative review of the countervailing duty order on Low Enriched Uranium from France (C-427-819). In its requests, Eurodif stated that once the remands, pursuant to the Court of Appeals for the Federal Circuit decision that SWU contracts constitute the sale of services not goods (Eurodif S.A. v. United States, 423 F.3d 1275 (Fed. Cir. 2005)), are finalized, there will be no need to conduct these reviews. The petitioner, USEC and United States Enrichment Corporation (collectively, “USEC”), filed a timely response to Eurodif's deferral requests in accordance with 19 CFR 351.213 (c)(1)(ii) and 351.213 (c)(2). USEC stated that, although it disagreed with the reasoning for the deferrals set forth by Eurodif, it did not object to the deferrals on the grounds that such deferrals would give the parties, including the Department, more time to focus on the appeals. No other party filed comments or objections pursuant to 19 CFR 351.213 (c)(1)(ii). Although the Department disagrees with the reasoning set forth in Eurodif's requests for deferral, we find that these deferrals will conserve resources and permit all of the parties to focus on the litigation issues. Accordingly, we have decided to defer the initiation of these administrative reviews for one year in accordance with 19 CFR 351.213 (c)(3).

Initiation of Reviews

In accordance with 19 CFR 351.221(c)(1)(i), we are initiating administrative reviews of the following antidumping and countervailing duty orders and findings. We intend to issue the final results of these reviews not later than February 28, 2007. Also, in accordance with 19 CFR 351.213(c), we are deferring for one year the initiation of the February 1, 2005 through January 31, 2006 administrative review of the antidumping duty order on Low Enriched Uranium from France (A-427-818) and the January 1, 2005 through December 31, 2005 administrative review of the countervailing duty order on Low Enriched Uranium from France (C-427-819) with respect to one producer/exporter.

Antidumping Duty Proceedings | Period to be Reviewed
BRAZIL: Frozen Warmwater Shrimp¹
A-351-838 | 8/4/04 - 1/31/06
ECUADOR: Frozen Warmwater Shrimp²
A-331-802 | 8/4/04 - 1/31/06
INDIA: Certain Preserved Mushrooms
A-533-813 | 2/1/05 - 1/31/06
Agro Dutch Industries, Ltd.
Himalaya International, Ltd.
INDIA: Stainless Steel Bar
A-533-810 | 2/1/05 - 1/31/06
Akai Asian
Atlas Stainless
Bhansali
Facor Steels Limited
Isibars, Ltd.
Grand Foundry
Meltroll
Mukand, Ltd.
Sindia Steel
Snowdrop Trading
Venus Wire
Viraj Alloys, Ltd.; Viraj Forgings, Ltd.; Viraj Impoexpo, Ltd.; Viraj Smelting; Viraj Profiles; and VSL Wires, Ltd³
INDIA: Forged Stainless Steel Flanges
A-533-809 | 2/1/05 - 1/31/06
Echjay Forging Pvt. Ltd.
Kunj Forgings Pvt. Ltd.
Micro Forge (India) Ltd.
Pradeep Metals Limited
Rollwell Forge, Ltd.
Shree Ganesh Forgings, Ltd.
INDIA: Frozen Warmwater Shrimp⁴
A-533-840 | 8/4/04 - 1/31/06
MALAYSIA: Stainless Steel Butt-Weld Pipe Fittings
A-557-809 | 2/1/05 - 1/31/06
Kanzen Tetsu Sdn Bhd
Sapura-Schulz Hydroforming Sdn Bhd
Schulz (Mfg.) Sdn. Bhd
PHILIPPINES: Stainless Steel Butt-Weld Pipe Fittings
A-565-801 | 2/1/05 - 1/31/06
Tung Fong Industrial Co., Inc.
Enlin Steel Corporation
THAILAND: Frozen Warmwater Shrimp⁵
A-549-822 | 8/4/04 - 1/31/06
THE PEOPLE'S REPUBLIC OF CHINA: Axes/Adzes⁶
A-570-803 | 2/1/05 - 1/31/06
Iron Bull Industrial Co., Ltd.
Jafsam Metal Products
Shanghai Machinery Import & Export Corp. (“SMIE”)
Shanghai Xinke Trading Company
Shandong Huarong Machinery Co., Ltd. (“Huarong”)
Shandong Jinma Industrial Group Co., Ltd.
Shandong Machinery Import and Export Corporation (“SMC”)
Tianjin Machinery Import and Export Corporation (“TMC”)
Truper Herramientas S.A. de C.V.
THE PEOPLE'S REPUBLIC OF CHINA: Bars/Wedges*
A-570-803 | 2/1/05 - 1/31/06
Iron Bull Industrial Co., Ltd.
Jafsam Metal Products
Shanghai Machinery Import & Export Corp. (“SMIE”)
Shanghai Xinke Trading Company
Shandong Huarong Machinery Co., Ltd. (“Huarong”)
Shandong Jinma Industrial Group Co., Ltd.
Shandong Machinery Import and Export Corporation (“SMC”)
Tianjin Machinery Import and Export Corporation (“TMC”)
Truper Herramientas S.A. de C.V.
THE PEOPLE'S REPUBLIC OF CHINA: Frozen Warmwater Shrimp⁷
A-570-893 | 7/16/04 - 1/31/06
THE PEOPLE'S REPUBLIC OF CHINA:Hammers/Sledges*
A-570-803 | 2/1/05 - 1/31/06
Iron Bull Industrial Co., Ltd.
Jafsam Metal Products
Shanghai Machinery Import & Export Corp. (“SMIE”)
Shanghai Xinke Trading Company
Shandong Huarong Machinery Co., Ltd. (“Huarong”)
Shandong Jinma Industrial Group Co., Ltd.
Shandong Machinery Import and Export Corporation (“SMC”)
Tianjin Machinery Import and Export
THE PEOPLE'S REPUBLIC OF CHINA: Picks/Mattocks*
A-570-803 | 2/1/05 - 1/31/06
Iron Bull Industrial Co., Ltd.
Jafsam Metal Products
Shanghai Machinery Import & Export Corp. (“SMIE”)
Shanghai Xinke Trading Company
Shandong Huarong Machinery Co., Ltd. (“Huarong”)
Shandong Jinma Industrial Group Co., Ltd.
Shandong Machinery Import and Export Corporation (“SMC”)
Tianjin Machinery Import and Export
THE PEOPLE'S REPUBLIC OF CHINA: Certain Preserved Mushrooms⁸
A-570-851 | 2/1/05 - 1/31/06
Blue Field (Sichuan) Food Industrial Co., Ltd.
China National Cereals, Oils, & Foodstuffs Import & Export Corporation
China Processed Food Import & Export Company
COFCO (Zhangzhou) Food Industrial Co., Ltd.
Gerber Food (Yunnan) Co., Ltd.
Green Fresh Foods (Zhangzhou) Co., Ltd.
Guangxi Hengxian Pro-Light Foods, Inc.
Guangxi Eastwing Trading Co., Ltd.
Guangxi Yulin Oriental Food Co., Ltd.
Primera Harvest (Xiangfan) Co., Ltd.
Raoping CXF Foods Co., Inc.
Raoping Yucun Canned Foods Factory
Shandong Jiufa Edible Fungus Co., Ltd.
Xiamen Jiahua Import & Export Trading Co., Ltd.
SOCIALIST REPUBLIC OF VIETNAM: Frozen Warmwater Shrimp⁹
A-552-802 | 7/16/04 - 1/31/06
Countervailing Duty Proceedings
GERMANY: Low Enriched Uranium
C-428-821 | 1/1/05 - 12/31/05
Urenco Deutschland GmbH
REPUBLIC OF KOREA: Certain Cut-to-Length Carbon-Quality Steel Plate
C-580-837 | 1/1/05 - 12/31/05
Dongkuk Steel Mill Co., Ltd.
THE NETHERLANDS: Low Enriched Uranium
C-421-809 | 1/1/05 - 12/31/05
Urenco Nederland BV
UNITED KINGDOM: Low Enriched Uranium
C-412-821 | 1/1/05 - 12/31/05
Urenco (Capenhurst) Ltd.
Suspension Agreements
None.
Deferral of Initiation of Administrative Reviews
FRANCE: Low Enriched Uranium
A-427-818 | 2/1/05 - 1/31/06
Eurodif S.A./COGEMA
FRANCE: Low Enriched Uranium
C-427-819 | 1/1/05 -12/31/05
Eurodif S.A./COGEMA
¹ The administrative review for the above referenced case will be published in a separate initiation notice.
² The administrative review for the above referenced case will be published in a separate initiation notice.
³ The Department revoked the order in part, with respect to entries of subject merchandise produced and exported by Viraj (Viraj Alloys, Ltd.; Viraj Forgings, Ltd.; and Viraj Impoexpo, Ltd.), effective February 1, 2003. See Stainless Steel Bar From India; Final Results, Rescission of Antidumping Duty Administrative Review in Part, and Determination to Revoke in Part, 69 FR 55409, 55410-11 (September 14, 2004). The Department is conditionally initiating a review with respect to Viraj Alloys, Ltd.; Viraj Forgings, Ltd.; Viraj Impoexpo, Ltd.; Viraj Smelting; Viraj Profiles; and VSL Wires, Ltd., pending further information from the requestor as to sales of subject merchandise not covered by the revocation.
⁴ The administrative review for the above referenced case will be published in a separate initiation notice.
⁵ The administrative review for the above referenced case will be published in a separate initiation notice.
⁶ (*) If the one of the above-named companies does not qualify for a separate rate, all other exporters of Heavy Forged Hand Tools from the People's Republic of China who have not qualified for a separate rate are deemed to be covered by this review as part of the single PRC entity of which the named exporters are a part.
⁷ The administrative review for the above referenced case will be published in a separate initiation notice.
⁸ If one of the above-named companies does not qualify for a separate rate, all other exporters of certain preserved mushrooms from the People's Republic of China who have not qualified for a separate rate are deemed to be covered by this review as part of the single PRC entity of which the named exporters are a part.
⁹ The administrative review for the above referenced case will be published in a separate initiation notice.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: March 30, 2006.
Thomas F. Futtner,
Acting Office Director,AD/CVD Operations, Office 4 Import Administration.

[FR Doc. E6-4938 Filed 4-4-06; 8:45 am]

BILLING CODE 3510-DS-S